DEPARTMENT OF COMMERCE

National Oceanic and Atmospheric Administration

RIN 0648-XN29

South Atlantic Fishery Management Council; Public Meetings

AGENCY: National Marine Fisheries Service (NMFS), National Oceanic and Atmospheric Administration (NOAA), Commerce.

ACTION: Notice of public meetings.

SUMMARY: The South Atlantic Fishery Management Council (Council) will hold meetings of its Scientific and Statistical Committee (SSC), Standard Operating, Policy and Procedure (SOPPs) Committee, a joint meeting of its Executive and Finance Committees, Limited Access Privilege Program (LAPP) Committee, Golden Crab Committee, Mackerel Committee, Dolphin/Wahoo Committee, Shrimp Committee, SSC Selection Committee (Closed Session), joint Ecosystem-Based Management and Habitat Committees, Spiny Lobster Committee, Snapper Grouper Committee, and a meeting of the full Council.

The Council will also hold a an informal public question and answer session, a public comment period on the Fishery Ecosystem Plan, and may hold a public comment session regarding Interim Rule measures to address overfishing of red snapper if the Council considers an Interim Rule request. See SUPPLEMENTARY INFORMATION for additional details.

DATES: The meeting will be held March 2-6, 2009. See SUPPLEMENTARY INFORMATION for specific dates and times.

ADDRESSES: The meeting will be held at the Jekyll Island Club Hotel, 371 Riverview Drive, Jekyll Island, GA 31527; Telephone: 800/535-9547 or 912/635-2600; Fax 912/635-2818. Copies of documents are available from Kim Iverson, Public Information Officer, South Atlantic Fishery Management Council, 4055 Faber Place Drive, Suite 201, North Charleston, SC 29405.

FOR FURTHER INFORMATION CONTACT: Kim Iverson, Public Information Officer; telephone: 843/571-4366 or toll free at 866/SAFMC-10; fax: 843/769-4520; email: kim.iverson@safmc.net.

SUPPLEMENTARY INFORMATION:

Meeting Dates:

1. Scientific and Statistical Committee (SSC) Meeting: March 2, 2009, 9:00 a.m. until 5:00 p.m.; March 3, 2009, 8:30 a.m.—5:00 p.m.; March 4, 2009, 8:30 a.m.—5:00 p.m., (Concurrent Sessions)

The SSC will discuss the process for establishing Overfishing Limits and Acceptable Biological Catch levels for assessed stocks, stocks under rebuilding plans, and stocks without assessments.

2. SOPPs Committee Meeting: March 2, 2009, 1:30 p.m. until 2:30 p.m. The SOPPs Committee will review the proposed rule addressing Council SOPPs, receive an update on the status of Secretarial review of Council SOPPs and develop changes as necessary.

3. Joint Executive and Finance Committees Meeting: March 2, 2009, 2:30 p.m. until 3:30 p.m. The Executive Committee and Finance Committee will meet jointly to review the status of the Calendar Year (CY) budget, the status of the Fiscal Year 2009 President's/Congressional budget, and approve the CY 2009 budget (if the Council's funding level has been determined by the time of the meeting).

4. LAPP Committee Meeting: March 2, 2009, 3:30 p.m. until 5:30 p.m. The LAPP Committee will receive a summary of a recent meeting with golden crab fishermen, review comments received during public scoping, and provide direction to staff.

NOTE: There will be an informal public question and answer session with NOAA Fisheries Services' Regional Administrator and the Council Chairman on March 2, 2009 beginning at 5:30 p.m.

5. Golden Crab Committee Meeting: March 3, 2009, 8:30 a.m. until 10:00 a.m. The Golden Crab Committee will receive a summary of a recent meeting with golden crab fishermen, review comments received during public scoping, and provide direction to staff.

6. King and Spanish Mackerel Committee Meeting: March 3, 2009, 10:00 a.m. until 12:00 noon. The Mackerel Committee will review the Gulf of Mexico Fishery Management Council's work schedule regarding mackerel, review comments received during public scoping, and provide direction to staff.

7. Dolphin/Wahoo Committee Meeting: March 3, 2009, 1:30 p.m. until 2:30 p.m. The Dolphin/Wahoo Committee will review comments received during public scoping and provide direction to staff.

8. Shrimp Committee Meeting: March 3, 2009, 2:30 p.m. until 3:30 p.m. The Shrimp Committee will review the status of overwintering shrimp, review comments received during public scoping, and provide direction to staff.

9. SSC Selection Committee Meeting (Closed Session): March 3, 2009, 3:30 p.m. until 5:00 p.m. The SSC Selection Committee will review membership, discuss policy issues and modify as appropriate.

10. Joint Ecosystem-Based Management Committee and Habitat Committee Meeting: March 4, 2009, 8:30 a.m. until 10:30 a.m. The Ecosystem-Based Committee and Habitat Committee will meet jointly to review public comments, revise the Fishery Ecosystem Plan (FEP) as appropriate and recommend the FEP for formal review. The Committees will also review public comments and revise the Comprehensive Ecosystem-Based Amendment 1 as appropriate. The Committees will review public scoping comments on the Comprehensive Ecosystem-Based Amendment 2 and provide direction to staff. The Committees will receive a presentation regarding live rock and coral, a report on the International Coral Symposium, and an update on the South Atlantic Alliance. The Committee will also discuss habitat issues as appropriate.

11. Spiny Lobster Committee Meeting: March 4, 2009, 10:30 a.m. until 12:00 noon The Spiny Lobster Committee will receive a report on the status of the Import Amendment, discuss the Gulf of Mexico Fishery Management Council's timing and schedule for Amendment 5 to the Spiny Lobster Fishery Management Plan, review public scoping comments, and provide direction to staff.

12. Snapper Grouper Committee Meeting: March 4 2009, 1:30 p.m. until 5:00 p.m. and March 5, 2009, 8:00 a.m.—12:00 noon. The Snapper Grouper Committee will receive an update on Oculina Bank monitoring activities, a presentation on the discard mortality of black sea bass, and review a request regarding draft regulations for Gray's Reef Research Area. The Committee will also review Snapper Grouper Amendment 17 and provide direction to staff. The Committee will discuss a possible request for an interim rule to address overfishing for red snapper and provide recommendations to the Council, review scoping comments received on Snapper Grouper Amendment 18 and the Comprehensive Annual Catch Limit Amendment, and provide direction to staff.

12. Council Session: March 5, 2009, 1:30 p.m. until 5:15 p.m. and March 6, 2009, 8:30 a.m. until 10:00 a.m.

Council Session: March 5, 2009, 1:30 p.m. until 5:15 p.m.

From 1:30 p.m.—1:45 p.m., the Council will call the meeting to order, adopt the agenda, and approve the December 2008 meeting minutes.

From 1:45 p.m.—2:30 p.m., the Council will hear a report from the Snapper Grouper Committee. The Council will provide its decision on submitting a Red Snapper Interim Rule request to the Secretary of Commerce. The Council will also consider other Committee recommendations and take action as appropriate.

Note: A public comment session will be held at 1:45 p.m. regarding an Interim Rule for addressing overfishing of red snapper if the Council considers an Interim Rule request.

From 2:30 p.m.—3:00 p.m., the Council will receive a report from the joint Ecosystem-Based Management and Habitat Committees, review public comment on the Fishery Ecosystem Plan, consider recommendations from the joint Committees and take action as appropriate. Note: A public comment session will be held at 2:30 p.m. or immediately following the Snapper Grouper Committee Report regarding the Fishery Ecosystem Plan.

From 3:00 p.m.—3:15 p.m., the Council will receive a report from the SOPPs Committee and take action as appropriate.

From 3:15 p.m.—3:30 p.m., the Council will receive a report from the joint Executive/Finance Committees meeting, approve the CY 2009 budget (as necessary), consider other Committee recommendations and take action as appropriate.

From 3:30 p.m.—3:45 p.m., the Council will receive a report from the LAPP Committee and take action as appropriate.

From 3:45 p.m.—4:00 p.m., the Council will receive a report from the Golden Crab Committee and take action as appropriate.

From 4:00 p.m.—4:15 p.m., the Council will receive a report from the Mackerel Committee and take action as appropriate.

From 4:15 p.m.—4:30 p.m., the Council will receive a report from the Dolphin/Wahoo Committee and take action as appropriate.

From 4:30 p.m.—4:45 p.m., the Council will receive a report from the Shrimp Committee and take action as appropriate.

From 4:45 p.m.—5:00 p.m., the Council will receive a report from the Spiny Lobster Committee and take action as appropriate.

From 5:00 p.m.—5:15 p.m., the Council will review and develop recommendations on Experimental Permit requests as necessary.

Council Session: March 6, 2009, 8:30 a.m. until 10:00 a.m.

From 8:30 a.m.—10:00 a.m., the Council will receive status reports from NOAA Fisheries' Southeast Regional Office, NOAA Fisheries' Southeast Fisheries Science Center, agency and liaison reports, and discuss other business including upcoming meetings.

Documents regarding these issues are available from the Council office (see ADDRESSES).

Although non-emergency issues not contained in this agenda may come before this Council for discussion, those issues may not be the subjects of formal final Council action during this meeting. Council action will be restricted to those issues specifically listed in this notice and any issues arising after publication of this notice that require emergency action under section 305 (c) of the Magnuson-Stevens Act, provided the public has been notified of the Council's intent to take final action to address the emergency.

Except for advertised (scheduled) public hearings and public comment, the times and sequence specified on this agenda are subject to change.

Special Accommodations

These meetings are physically accessible to people with disabilities. Requests for sign language interpretation or other auxiliary aids should be directed to the Council office (see ADDRESSES) by February 27, 2009.

Dated: February 10, 2009.
Tracey L. Thompson,
Acting Director, Office of Sustainable Fisheries, National Marine Fisheries Service.

[FR Doc. E9-3101 Filed 2-12-09; 8:45 am]

BILLING CODE 3510-22-S